DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Mary Jean Pajak, P.E., FEMA, 500 C Street SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, flood insurance, reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. * Elevation in feet (NGVD) • Elevation in feet (NAVD)
FLORIDA
Polk County (FEMA Docket No. D-7554)
Lake Myrtle No. 2:
From the eastern shoreline to the confluence with Peace Creek Drainage Canal | * 120
City of Lake Wales, Polk County (Unincorporated Areas)
Polk County (Unincorporated Areas)
Maps available for inspection at the County Engineer Division, 330 West Church Street, Bartow, Florida.
———
City of Lake Wales
Maps available for inspection at the Lake Wales City Administration Building, 201 West Central Avenue, Lake Wales, Florida.
ILLINOIS
St. Clair County (FEMA Docket No. D-7534)
Silver Creek:
Approximately 12,000 feet upstream of the confluence with Kaskaskia River | * 396
Approximately 1.25 miles upstream of Lebanon Loyett Road | * 451
St. Clair County (Unincorporated Areas), City of Mascoutah, City of Lebanon
Hog River:
At the confluence with Silver Creek | * 418
Just upstream of Union Street | * 418
St. Clair County (Unincorporated Areas), City of Mascoutah
Loop Creek:
At the confluence with Silver Creek | * 418
Approximately 1.5 miles upstream of confluence with Silver Creek | * 421
St. Clair County (Unincorporated Areas)
Little Silver Creek:
At the confluence with Silver Creek | * 429
Approximately 1,500 feet upstream of confluence with Silver Creek | * 432
St. Clair County (Unincorporated Areas)
Ogles Creek:
At the confluence with Silver Creek | * 449
Approximately 265 feet upstream of Old Collinsville Road | * 551
St. Clair County (Unincorporated Areas), City of Fairview Heights
Wolf Branch:
Approximately 1,700 feet upstream of confluence with Richland Creek | * 500
Approximately 920 feet upstream of unnamed road | * 538
St. Clair County (Unincorporated Areas), Village of Swansea
Schoenberger Creek:
Approximately at North 89th Street | * 437
Approximately 1,500 feet upstream of State Route 161 | * 482
City of Belleville, City of Fairview Heights, City of East St. Louis
Kaskaskia River:
At downstream corporate limits of Village of New Athens | * 395
Approximately 0.78 mile upstream of Illinois Central Railroad crossing | * 396
Village of New Athens
Ponding Areas:
Between Illinois Terminal Railroad and Camp Jackson Road | * 404
Approximately 20 feet south of the intersection of Fox Meadow Lane and Paris Avenue | * 404
Village of Cahokia
At intersection of Sterling Place and Bermuda Avenue | * 422
At intersection of Countryside Drive and Acorde Drive | * 422
North of Harding Ditch, west of Black Lane | * 418
Approximately 1,000 feet northwest of intersection with Interstate Route 64 and State Route 157 | * 422
Village of Caseyville
Between Interstate 255 and State Route 157 | * 411
Approximately 600 feet southeast of the intersection of Pocket Road and State Route 15 and Missouri Avenue | * 411
Village of Alorton
At the intersection of Lake Drive and East Side Levee and Sanitary Canal District | * 414
At the intersection of Belleview Avenue and North 80th Street | * 414
Approximately 1,000 feet west of the intersection of State Route 15 (New Missouri Avenue and Harding Ditch) | * 411
City of Centreville
Approximately 1,000 feet west of Collinsville Road | * 403
Village of Fairmont City
Approximately 700 feet east of the intersection of St. Clair Avenue and Louisville and Nashville Railroad | * 417
Village of Washington Park
Approximately 300 feet south of the intersection of St. Clair Avenue and Louisville and Nashville Railroad | * 414
Approximately 500 feet north of the intersection of St. Clair Avenue and Louisville and Nashville Railroad | * 414
Village of Washington Park, City of East St. Louis
Approximately 500 feet northwest of intersection of Summit Avenue and Michigan Avenue | * 414
Approximately 300 feet northeast of the intersection of Louisville and Nashville Railroad and Kings Highway (State Route 50) | * 415
Approximately 400 feet east of intersection of Ohio Avenue and North 62nd Street | * 414
Intersection of Marybelle Avenue and North 70th Street | * 418
Approximately 500 feet southwest of intersection of State Street and Terrace Drive | * 414
Approximately 600 feet south of intersection of St. Clair Avenue and North 47th Street | * 414
City of East St. Louis
North of Cahokia Canal, west of Madison Road, east of Industrial Avenue | * 407
Approximately 1,000 feet west of the intersection of Collinsville Road and Cookson Road | * 403
At intersection of Site Road and Park Road | * 411
Approximately 400 feet east of intersection of Pocket Road and Site Road | * 411
At intersection of Park Drive and Major Street | * 418
Approximately 800 feet west of intersection of Stowers Road and Bernia Street | * 421
St. Clair County (Unincorporated Areas)
At intersection of Watts Street and Brinson Drive | * 418
Approximately 0.5 mile east of intersection of Watts Street and Brinson Drive | * 418
At intersection of Caseyville Road and Bunkum Road | * 422
At intersection of North 82nd Street and Bunkum Road | * 422
At intersection of Rock Springs Road and McKinley Avenue | * 415
St. Clair County (Unincorporated Areas), Village of Washington Park
North of Old Cahokia Canal and south of County Road boundary | * 403
St. Clair County (Unincorporated Areas), Village of Fairmont
Approximately 1,000 feet northeast of the intersection of Mullins Creek Road and Prairie du Pont Creek | * 418
South of Cahokia Canal, north of CSX Transportation and southwest of Old Cahokia Canal | * 403
Approximately 1,000 feet east of the intersection of Rock Springs Road and St. Clair Avenue | * 415
Approximately 750 feet west of the intersection of Lake Drive and North 88th Street | * 414
Approximately 400 feet south of the intersection of U.S. Route 255 County Route 3) | * 404
St. Clair County (Unincorporated Areas)
Ponding Areas (along Harding Ditch):
Approximately 700 feet southeast of the intersection of State Route 157 and Carol Street | * 411
St. Clair County (Unincorporated Areas)
Village of Alorton:
Maps available for inspection at the Alorton Village Hall, 4821 Bond Avenue, Alorton, Illinois.
———
City of Belleville:
Maps available for inspection at the Belleville Department of Economic Development & Planning, 101 South Illinois Street, Belleville, Illinois.
———
Village of Cahokia:
Maps available for inspection at the Cahokia Code Enforcement Department, 201 West 4th Street, Cahokia, Illinois.
———
Village of Caseyville:
Maps available for inspection at the Casesyville Village Hall, 10 West Morris Street, Caseyville, Illinois.
———
City of Centreville:
Maps available for inspection at the Centreville City Hall, 5800 Bond Avenue, Centreville, Illinois.
———
City of East St. Louis:
Maps available for inspection at the East St. Louis Municipal Building, 301 River Park Drive, East St. Louis, Illinois.
———
Village of Fairmont City:
Maps available for inspection at the Fairmont City Village Hall, 2601 North 41st Street, Fairmont City, Illinois.
———
City of Fairview Heights:
Maps available for inspection at the City of Fairview Heights Municipal Building, 10025 Bunkum Road, Fairview Heights, Illinois.
———
City of Lebanon:
Maps available for inspection at the Lebanon City Hall, 312 West St. Louis Street, Lebanon, Illinois.
———
City of Mascoutah:
Maps available for inspection at the Mascoutah City Hall, #3 West Main Street, Mascoutah, Illinois.
———
Village of New Athens:
Maps available for inspection at the New Athens Village Hall, 905 Spotsylvania Street, New Athens, Illinois.
———
St. Clair County (Unincorporated Areas):
Maps available for inspection at the St. Clair County Department of Building and Zoning, 10 Public Square, Belleville, Illinois.
———
Village of Swansea:
Maps available for inspection at the Swansea Government Center, 1400 North Illinois Street, Swansea, Illinois.
———
Village of Washington Park:
Maps available for inspection at the Washington Park Village Hall, 5218 North Park Drive, Washington Park, Illinois.
NORTH CAROLINA
Beaufort County (FEMA Docket Nos. D-7544 and D-7554)
Acre Swamp:
At the confluence with Pungo Swamp | • 20
Approximately 0.6 mile upstream of confluence with Fork Swamp | • 28
Beaufort County (Unincorporated Areas)
Back Creek:
Approximately 1.9 miles upstream of State Route 92 | • 9
Approximately 3.0 miles upstream of State Route 92 | • 10
Beaufort County (Unincorporated Areas)
Bailey Creek:
Approximately 1.1 mile upstream of State Route 306 | • 9
Approximately 150 feet upstream of railroad | • 12
Beaufort County (Unincorporated Areas)
Blounts Creek:
At the upstream side of the railroad | • 15
Approximately 1.7 miles upstream of the railroad | • 23
Beaufort County (Unincorporated Areas)
Broomfield Swamp Creek:
Approximately 200 feet downstream of Broome Road | • 7
Approximately 0.4 mile upstream of Broome Road | • 11
Beaufort County (Unincorporated Areas), Town of Aurora
Cypress Run:
At the upstream side of Idalia Road | • 10
Approximately 0.8 mile upstream of Idalia Road | • 14
Beaufort County (Unincorporated Areas)
Duck Creek:
Approximately 0.4 mile upstream of Hawkins Beach Road | • 9
Approximately 200 feet upstream of Camp Leach Road | • 9
Beaufort County (Unincorporated Areas)
Durham Creek:
Approximately 1.2 miles downstream of Durham Creek Road | • 8
Approximately 0.8 mile upstream of Walker Road | • 37
Beaufort County (Unincorporated Areas)
Durham Creek Tributary:
At the confluence with Durham Creek | • 12
Approximately 50 feet downstream of Durham Creek Road | • 15
Beaufort County (Unincorporated Areas)
Durham Creek Tributary 2:
At the confluence with Durham Creek | • 21
Approximately 1,875 feet upstream of Fork Road | • 27
Beaufort County (Unincorporated Areas)
Fork Swamp:
At the confluence with Acre Swamp | • 28
Approximately 0.5 mile upstream of the railroad | • 35
Beaufort County (Unincorporated Areas)
Gum Swamp Run East:
Approximately 0.4 mile upstream of confluence with South Creek | • 7
Approximately 100 feet downstream of Bay City Road | • 9
Beaufort County (Unincorporated Areas)
Harvey Creek:
At the upstream side of Interstate Route 264 | • 19
Approximately 1.0 mile upstream of Interstate Route 264 | • 25
Beaufort County (Unincorporated Areas)
Herring Run:
Approximately 100 feet downstream of Herring Run Road | • 10
Approximately 1.0 mile upstream of Gore Point Road | • 17
Beaufort County (Unincorporated Areas)
Porter Creek:
Approximately 0.9 mile downstream of Louden Road | • 8
Approximately 100 feet downstream of Gray Road | • 16
Beaufort County (Unincorporated Areas)
Poundpole Swamp Branch:
At the confluence with Blounts Creek | • 15
Approximately 0.6 mile upstream of Little Egypt Road | • 33
Beaufort County (Unincorporated Areas)
Pungo River Canal:
Approximately 1.5 miles upstream of confluence with Pungo Lake Canal | • 7
Approximately 750 feet downstream of State Route 99 | • 10
Beaufort County (Unincorporated Areas)
Pungo Swamp:
Approximately 0.5 mile upstream of Jones Bridge Road | • 12
Approximately 100 feet upstream of State Route 32 | • 25
Beaufort County (Unincorporated Areas)
Rowland Creek:
Approximately 100 feet upstream of Post Road | • 9
Approximately 2,000 feet upstream of Jackson Swamp Road | • 11
Beaufort County (Unincorporated Areas)
South Creek:
Approximately 1,800 feet upstream of the confluence with Cypress Run | • 7
Approximately 2.7 miles upstream of the confluence with Cypress Run | • 15
Beaufort County (Unincorporated Areas)
Tankard Creek:
Approximately 100 feet upstream of Boyd Loop Road | • 13
Approximately 1.2 miles upstream of Boyd Loop Road | • 18
Upper Broad Creek:
At the confluence with Durham Creek | • 26
At the County boundary | • 31
Beaufort County (Unincorporated Areas)
Whitehurst Creek:
Approximately 0.9 mile upstream of State Route 306 | • 7
Approximately 0.5 mile upstream of Brantely Swamp Road | • 11
Beaufort County (Unincorporated Areas)
Pamlico River/Pamlico Sound/Atlantic Ocean:
In the vicinity of the intersection of Austin Road and Cypress Swamp Road | • 7
Beaufort County (Unincorporated Areas)
Atlantic Ocean/Pamlico Sound:
At the intersection of 9th Street and Boston Avenue | • 10
City of Washington
Bear Creek:
At the upstream side of State Route 33 | • 27
Approximately 650 feet downstream of Hodges Road | • 35
Beaufort County (Unincorporated Areas)
Bear Grass Swamp:
At the confluence with Tranters Creek | • 31
Approximately 1,000 feet upstream of the confluence with Turkey Swamp | • 31
Beaufort County (Unincorporated Areas)
Beaverdam Swamp:
Approximately 50 feet upstream of Slatestone Road | • 37
Approximately 1.0 mile upstream of Slatestone Road | • 46
Beaufort County (Unincorporated Areas)
Big Swamp:
Approximately 50 feet upstream of Market Street Ext. | • 31
Approximately 1,000 feet upstream of J and W Tram Road | • 44
Beaufort County (Unincorporated Areas)
Broad Creek:
At Broad Creek Road | • 10
Approximately 1.3 10 miles upstream of Broad Creek Road | • 10
Beaufort County (Unincorporated Areas)
Broad Creek Tributary 1:
At the upstream side of Lizard Slip Road | • 15
Approximately 1.4 miles upstream of Old Bath Highway | • 31
Beaufort County (Unincorporated Areas)
Chicod Creek:
Approximately 0.9 mile downstream of Dixon Road | • 31
At the confluence of Juniper Swamp | • 43
Beaufort County (Unincorporated Areas)
Chocowinity Creek:
Approximately 450 feet downstream of the confluence of Morris Run | • 22
Approximately 3.7 miles upstream of the confluence of Morris Run | • 40
Beaufort County (Unincorporated Areas)
Cindy Edwards Branch:
At the upstream side of State Route 33 | • 17
Approximately 1.0 mile upstream of State Route 33 | • 24
Beaufort County (Unincorporated Areas)
Creeping Swamp:
Approximately 0.7 mile downstream of State Route 102 | • 36
At the County boundary | • 47
Beaufort County (Unincorporated Areas)
Gum Swamp:
At the upstream side of U.S. Interstate 17 | • 38
Approximately 650 feet downstream of County boundary | • 42
Beaufort County (Unincorporated Areas)
Gum Swamp Run West:
Approximately 300 feet upstream of the confluence with Morris Run | • 26
Approximately 1.5 miles upstream of the confluence with Morris Run | • 32
Beaufort County (Unincorporated Areas)
Hall Swamp:
Approximately 50 feet upstream of Slatestone Road | • 37
Approximately 150 feet downstream of Bluebird Lane | • 39
Beaufort County (Unincorporated Areas)
Harding Swamp:
At the confluence with Juniper Swamp | • 43
Approximately 0.7 mile upstream of the confluence of Juniper Swamp | • 47
Beaufort County (Unincorporated Areas)
Hills Creek:
At the downstream side of Gilead Shores Road | • 10
Approximately 0.8 mile upstream of Gilead Shores Road | • 13
Beaufort County (Unincorporated Areas)
Horse Branch:
At the confluence with White Branch | • 14
At Gray Road | • 18
Beaufort County (Unincorporated Areas)
Horsepen Swamp:
At the confluence with Tranters Creek | • 16
Approximately 1.4 miles upstream of Wards Bridge Road | • 40
Beaufort County (Unincorporated Areas)
Joe Branch:
At the upstream side of Possum Track Road | • 43
Approximately 1,500 feet upstream of Possum Track Road | • 45
Beaufort County (Unincorporated Areas)
Maple Branch:
At the upstream side of U.S. Highway 264 | • 11
Approximately 0.6 mile upstream of Farm Path | • 21
Beaufort County (Unincorporated Areas), City of Washington
Mitchell Branch:
At U.S. Highway 264 | • 14
Approximately 160 feet upstream of Cherry Run Road | • 21
Beaufort County (Unincorporated Areas), City of Washington
Morris Run:
At the confluence with Chocowinity Creek | • 22
Approximately 1.8 miles upstream of State Route 33 | • 32
Beaufort County (Unincorporated Areas)
Old Ford Swamp:
Approximately 1,250 feet downstream of Calf Branch Road | • 26
Approximately 0.7 mile upstream of Calf Branch Road | • 36
Beaufort County (Unincorporated Areas)
Pinelog Branch:
At the confluence with Tranters Creek | • 29
Approximately 0.8 mile upstream of Cherry Run Road | • 30
Beaufort County (Unincorporated Areas)
Pineygrove Branch:
Approximately 100 feet upstream of Corsica Road | • 27
Approximately 2,000 feet upstream of Singleton Road | • 33
Beaufort County (Unincorporated Areas), City of Washington
Snoad Branch:
Approximately 600 feet downstream of Voa Road | • 19
Approximately 1.4 miles upstream of Voa Road | • 33
Beaufort County (Unincorporated Areas)
Tranters Creek:
Approximately 1,600 feet upstream of the confluence with Maple Branch | • 11
At the confluence of Bear Grass Swamp | • 31
Beaufort County (Unincorporated Areas)
White Branch:
At the confluence with Chocowinity Creek | • 12
At the downstream side of Gray Road | • 16
Beaufort County (Unincorporated Areas)
Town of Aurora
Maps available for inspection at the Aurora Town Hall, 295 Main Street, Aurora, North Carolina.
Beaufort County (Unincorporated Areas)
Maps available for inspection at the Beaufort County Building Inspection, 220 North Market Street, Washington, North Carolina.
———
City of Washington
Maps available for inspection at the City of Washington Building Inspection Department, 102 East Second Street, North Carolina.
NORTH CAROLINA
Carteret County (FEMA Docket No. D-7552)
Cedar Swamp Creek:
At the confluence with Newport River | • 9
Approximately 800 feet upstream of Forest Route #154 | • 26
Town of Newport, Carteret County (Unincorporated Areas)
Cypress Drain:
At the confluence with Newport River | • 17
Approximately 1,400 feet upstream of Lake Road | • 21
Carteret County (Unincorporated Areas)
Hadnot Creek:
Approximately 350 feet upstream of Old Church Road | • 9
Approximately 2.0 miles upstream of Forest Route #176 | • 33
Carteret County (Unincorporated Areas)
Hadnot Creek Tributary:
At the confluence with Hadnot Creek | •14
Approximately 1.3 miles upstream of confluence with Hadnot Creek | •30
Carteret County (Unincorporated Areas)
Hunters Creek:
At the confluence with White Oak River | •9
Approximately 750 feet upstream of confluence of Wolf Swamp | •24
Carteret County (Unincorporated Areas)
Juniper Branch:
At the confluence with Southwest Prong Newport River | •23
Approximately 0.4 mile upstream of Forest Route #177 | •30
Carteret County (Unincorporated Areas)
Main Prong:
At the confluence with Black Creek | •9
Approximately 2.0 miles upstream of confluence with Black Creek | •23
Carteret County (Unincorporated Areas)
Newport River:
At upstream side of Highway 70 | •9
Approximately 800 feet upstream of confluence of Cypress Drain | •18
Town of Newport, Carteret County (Unincorporated Areas)
Pettiford Creek:
At the confluence with Pettiford Creek Bay | •7
Approximately 2.0 miles upstream of Millis Road | •35
Carteret County (Unincorporated Areas)
Pettiford Creek Tributary 1:
At the confluence with Pettiford Creek | •13
Approximately 1.8 miles upstream of confluence with Pettiford Creek | •26
Carteret County (Unincorporated Areas)
Shoe Branch:
At the confluence with Newport River | •10
Approximately 0.8 mile upstream of Tom Mann Road | •27
Town of Newport, Carteret County (Unincorporated Areas)
Southwest Prong of Newport River:
At the confluence with Newport River | •11
Approximately 1,050 feet upstream of confluence of Millis Swamp | •26
Town of Newport, Carteret County (Unincorporated Areas)
Wolfse Swamp:
At the confluence with Hunters Creek | •23
Approximately 430 feet upstream of Forest Route #174 | •34
Town of Newport
Maps available for inspection at the Newport Town Hall, 200 Howard Boulevard, Newport, North Carolina.
———
Carteret County (Unincorporated Areas)
Maps available for inspection at the Carteret County Planning and Inspection, Court House Square, Beaufort, North Carolina.
NORTH CAROLINA
Scotland County (Unincorporated Areas) (FEMA Docket No. D-7540)
Beaverdam Creek:
At the confluence with Juniper Creek | •246
Approximately 1.5 miles upstream of Nashville Church Road | •263
Scotland County (Unincorporated Areas)
Big Branch:
At the confluence with Bridge Creek | •155
Approximately 0.5 mile upstream of Interstate 74 | •214
City of Laurinburg, Scotland County (Unincorporated Areas)
Big Muddy Creek:
At the confluence with the Lumber River | •266
At the County boundary | •311
Scotland County (Unincorporated Areas)
Bridge Creek:
At the confluence with Leith Creek | •146
Approximately 1,640 feet upstream of Andrew Jackson Highway/Interstate 74-Business | •229
City of Laurinburg, Scotland County (Unincorporated Areas)
Crawford Branch:
At the confluence with Gum Swamp Creek | • 242
Approximately 1.3 miles upstream of Crawford Lake Road | • 271
Scotland County (Unincorporated Areas)
Crooked Creek:
Approximately 700 feet downstream of the State boundary | • 225
Approximately 100 feet downstream of County Line Road | • 243
Scotland County (Unincorporated Areas)
Gum Swamp Creek:
At the confluence with Richmond Mill Lake/Gum Swamp Creek | • 210
Approximately 0.7 mile upstream of Gillis Road | • 223
Scotland County (Unincorporated Areas)
Joes Creek:
At the confluence with Gum Swamp Creek | • 178
Approximately 1,000 feet downstream of CSX Transportation | • 258
Scotland County (Unincorporated Areas)
Joes Creek Tributary:
At the confluence with Joes Creek | • 219
Approximately 100 feet downstream of Scotland County Line Road | • 261
Scotland County (Unincorporated Areas)
Jordan Creek:
At the confluence with Juniper Creek | • 192
Approximately 950 feet downstream of Timmons Road | • 300
Scotland County (Unincorporated Areas)
Juniper Creek:
At the confluence with Shoe Heel Creek | • 179
Approximately 1.8 miles upstream of Nashville Church Road | • 259
Scotland County (Unincorporated Areas)
Juniper Creek Tributary 1:
At the confluence with Juniper Creek | • 180
Approximately 750 feet upstream of Lee Lane | • 221
Scotland County (Unincorporated Areas)
Leith Creek:
At the County boundary | • 136
Approximately 1,500 feet upstream of Old Wire Road | • 248
Town of East Laurinburg, City of Laurinburg, Scotland County (Unincorporated Areas)
Leith Creek Tributary 1:
At the confluence with Leith Creek | • 137
Approximately 50 feet downstream of Pea Bridge Road | • 157
Scotland County (Unincorporated Areas)
Leith Creek Tributary 2:
At the confluence with Leith Creek | • 175
Approximately 325 feet downstream of Andrew Jackson Highway/Interstate 74-Business | • 189
Scotland County (Unincorporated Areas)
Little Creek:
At the confluence with Leith Creek | • 186
Approximately 125 feet downstream of Aberdeen Road/Interstate 501-15 | • 233
City of Laurinburg, Scotland County (Unincorporated Areas)
Little Juniper Creek:
At the confluence with Juniper Creek | • 197
Approximately 280 feet upstream of Aberdeen Road/Interstate 501-15 | • 256
Scotland County (Unincorporated Areas)
Little Juniper Creek Tributary:
At the confluence with Little Juniper Creek | • 227
Approximately 0.7 mile upstream of Aberdeen Road/Interstate 501-15 | • 264
Scotland County (Unincorporated Areas)
Little Shoe Heel Creek:
At the confluence with Shoe Heel Creek | • 213
Approximately 1.7 miles upstream of North Turnpike Road | • 331
Scotland County (Unincorporated Areas)
Little Shoe Heel Creek Tributary:
At the confluence with Little Shoe Heel Creek | • 223
Approximately 150 feet downstream of Arch McLean Road | • 257
Scotland County (Unincorporated Areas)
Lower Beaverdam Creek:
At the confluence with Gum Swamp Creek | •180
Approximately 1,900 feet upstream of Old Wire Road | •215
Scotland County (Unincorporated Areas)
Lumber River:
Approximately 3.0 miles upstream of McGirts Bridge Road | •205
At the County boundary | •268
Scotland County (Unincorporated Areas), Town of Wagram
Shoe Heel Creek:
Approximately 700 feet downstream of Old Maxton Road | •164
Approximately 1.6 miles upstream of Jane Shaw Road | •268
Scotland County (Unincorporated Areas)
Steer Branch:
At the confluence with Leith Creek | •144
Approximately 50 feet downstream of CSX Transportation | •169
Scotland County (Unincorporated Areas)
Towers Fork:
At the confluence with Big Muddy Creek |
Approximately 1.3 miles upstream of the confluence with Big Muddy Creek |
Scotland County (Unincorporated Areas)
Upper Beaverdam Creek:
At the confluence with Richmond Mill Lake/Gum Swamp Creek | •210
Approximately 800 feet upstream of Marston Road | •225
Scotland County (Unincorporated Areas)
Water Creek:
At the confluence with Gum Swamp Creek | •153
Approximately 1.4 miles upstream of Fox Crossings | •178
Scotland County (Unincorporated Areas)
Maps available for inspection at the Scotland County Governmental Annexation Building, 231 East Cronly Street, Laurinburg, North Carolina.
———
Town of East Laurinburg
Maps available for inspection at the East Laurinburg Municipal Building, 28 Fourth Street, Laurinburg, North Carolina.
———
City of Laurinburg
Maps available for inspection at the Laurinburg City Hall, 305 West Church Street, Laurinburg, North Carolina.
———
Town of Wagram
Maps available for inspection at the Wagram Town Offices, 24341 Riverton Road, Wagram, North Carolina.
OHIO
Gallia County (FEMA Docket No. D-7518)
Ohio River:
Approximately 1.7 miles upstream of county boundary | •560
Approximately 3.2 miles downstream of county boundary | •572
Unincorporated Areas of Gallia County, Village of Crown City, City of Gallipolis, Village of Cheshire
City of Gallipolis
Maps available for inspection at the Gallipolis City Building, 518 Second Avenue, Gallipolis, Ohio.
———
Village of Crown City
Maps available for inspection at the Crown City Village Hall, 156 Charles Street, Crown City, Ohio.
———
Village of Cheshire
Maps available for inspection at the Cheshire Village Office, 1828 Eastern Avenue, Gallipolis, Ohio.
———
Gallia County (Unincorporated Areas)
Maps available for inspection at the Gallia County Offices, 18 Locust Street, Gallipolis, Ohio.
SOUTH CAROLINA
Berkeley County (FEMA Docket No. D-7540)
Lake Marion:
Entire shoreline within Berkeley County | •77
Berkeley County (Unincorporated Areas)
Atlantic Ocean (Wambaw Creek):
From confluence with South Santee River to Forest Road 204 | •8
Berkeley County (Unincorporated Areas)
Atlantic Ocean (South Santee River):
From confluence with Wambaw Creek to confluence with Santee River | * 9
Berkeley County (Unincorporated Areas)
Atlantic Ocean (Santee River):
At confluence of South Santee River | * 9
Approximately 8.1 miles upstream of confluence of South Santee River | * 8
Berkeley County (Unincorporated Areas)
Atlantic Ocean (Clouter Creek):
At the confluence of Cooper River and Clouter Creek | * 16
Approximately 500 feet east of Cooper River Levee along Mark Clark Expressway (I-526) | * 12
Berkeley County (Unincorporated Areas), City of Charleston
Wando River:
Approximately 1,000 feet northeast of intersection of Bluffview Lane and Cainhoy Village Road | * 11
Approximately 650 feet southeast of intersection of Ashmont Drive and Jamesbury Road | * 9
Berkeley County (Unincorporated Areas)
Beresford Creek:
Approximately 1,000 feet south of intersection of Legrand Boulevard and Clements Ferry Road | * 12
Approximately 0.871 mile southeast of intersection of Greenann Court and Clements Ferry Road | * 14
Berkeley County (Unincorporated Areas)
Atlantic Ocean (Goose Creek):
Approximately 1,000 feet north of intersection of Yeamans Hall Road and North Rhett Avenue | * 11
Approximately 4,500 feet south of intersection of Wilkinson Way and Torpedo Road | * 13
City of Hanahan, City of Goose Creek
Atlantic Ocean (Cooper River):
Approximately 1 mile east of intersection of Missile Haul Road and Bushy Park Road | * 13
Approximately 1,000 feet south of intersection of Wilkinson Way and Red Bank Road | * 11
City of Goose Creek
Back River:
At confluence of Cooper River approximately 1 mile downstream of confluence of Chicken Creek | * 13
Berkeley County (Unincorporated Areas), City of Goose Creek
Foster Creek:
At confluence with Back River | * 7
Approximately 0.5 mile downstream of Pearl Street | * 11
City of Goose Creek
Berkeley County (Unincorporated Areas)
Maps available for inspection at the Berkeley County Office Building, 223 North Live Oak Drive, Moncks Corner, South Carolina.
———
City of Charleston
Maps available for inspection at the Charleston City Hall, 80 Broad Street, Charleston, South Carolina.
———
City of Goose Creek
Maps available for inspection at the Goose Creek City Hall, 519 North Goose Creek Boulevard, Goose Creek, South Carolina.
———
City of Hanahan
Maps available for inspection at the Hanahan City Administration Building, 1255 Yeamans Hall Road, Hanahan, South Carolina.

(Catalog of Federal Domestic Assistance No. 83.100, “Flood Insurance.”)
Dated: May 21, 2003.
Anthony S. Lowe,
Mitigation Division Director, Emergency Preparedness and Response Directorate.

[FR Doc. 03-13644 Filed 5-30-03; 8:45 am]

BILLING CODE 6718-04-P